DEPARTMENT OF TRANSPORTATION

Office of the Secretary

Notice of Applications for Certificates of Public Convenience and Necessity and Foreign Air Carrier Permits Filed Under Subpart B (Formerly Subpart Q) During the Week Ending June 20, 2008

Notice of Applications for Certificates of Public Convenience and Necessity and Foreign Air Carrier Permits Filed Under Subpart B (formerly Subpart Q) during the Week Ending June 20, 2008. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0191.

Date Filed: June 18, 2008.

Due Date for Answers, Conforming Applications, or Motion to Modify Scope: July 9, 2008.

Description: Application of ABC Aerolineas, S.A. de C.V. (“ABC”) requesting a foreign air carrier permit and an exemption to authorize ABC to engage in (i) scheduled foreign air transportation of persons, property and mail to the full extent authorized by the Air Transport Services Agreement between the United States and Mexico; that is on those routes, including beyond points where applicable, on which the Government of Mexico has designated, or may hereafter designate, ABC to provide scheduled service; and (ii) charter foreign air transportation of persons, property and mail from a point or points in Mexico to a point or points in the United States, and other charter operations.

Docket Number: DOT-OST-2008-0194.

Date Filed: June 20, 2008.

Due Date for Answers, Conforming Applications, or Motion to Modify Scope: July 11, 2008.

Description: Application of Iberworld Airlines, S.A. (“Iberworld”) requesting a foreign air carrier permit to the full extent authorized by the Air Transport Agreement between the United States and the European Community to enable it to engage in: (i) Foreign charter air transportation of persons and property from any point or points behind any Member State of the European Union via any point or points in any Member State and via intermediate points to any point or points in the United States and beyond; (ii) foreign charter air transportation of persons and property between any point or points in the United States and any point or points in any member of the European Common Aviation Area; (iii) other charters; and (iv) transportation authorized by any additional route rights made available to European Community carriers in the future. Iberworld further for renewal of its existing exemption authority an amendment to such authority to the extent necessary to enable it to provide the services described above pending issuance of a foreign air carrier permit and such additional or other relief.

Docket Number: DOT-OST-1997-2255 and DOT-OST-1997-2256.

Date Filed: June 19, 2008.

Due Date for Answers, Conforming Applications, or Motion to Modify Scope: July 10, 2008.

Description: Application of Custom Air Transport, Inc. requesting a waiver of the revocation for dormancy provision and 45-day advance notice requirement of 14 CFR Section 204.7 and for an extension of the one-year period in order to resume operations.

Renee V. Wright,
Program Manager, Docket Operations, Federal Register Liaison.

[FR Doc. E8-14987 Filed 7-1-08; 8:45 am]

BILLING CODE 4910-9X-P